FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Balkans Air Corporation (NVO & OFF), 1703 Bath Avenue, Brooklyn, NY 11214. Officers: Begator Hila, President, (Qualifying Individual), Skender Gashi, CEO, Application Type: Add NVO License.

Beyond Shipping, Inc. (NVO), 2000 Silver Hawk Drive, #2, Diamond Bar, CA 91765. Officer: Yilin Yang, President/Secretary/CFO, (Qualifying Individual), Application Type: New NVO License.

Caicos Caribbean Lines, Inc. (NVO), 9999 NW. 89th Avenue, Medley, FL 33178. Officer: Joanne Tyson, President/Secretary/Treasurer, (Qualifying Individual), Application Type: New NVO License.

Cargonet Logistics, Corp. (NVO), 4713 Deeboyar, Lakewood, CA 90712. Officer: Tan Sek, Pres/VP/Sec/Treasurer, (Qualifying Individual), Application Type: License Transfer.

Compass Freight Forwarding, Inc. (NVO & OFF), 7982 Capwell Drive, 2nd Floor, Oakland, CA 94621. Officers: Ylma E. Searle, Vice President/Treasurer, (Qualifying Individual), Victor R. Lacayo, President, Application Type: License Transfer.

JDB International Inc. dba Gava International, Freight Consolidators (USA), Inc. (NVO & OFF), 500 Country Club Drive, Bensenville, IL 60106. Officers: Dale Jordon, Director (Operations), (Qualifying Individual), Denzil Dsouza, CFO, Application Type: New NVO & OFF License.

K & S Freight Systems, Inc. (NVO & OFF), 2801 NW. 74th Avenue, #219, Miami, FL 33122. Officer: Nelson Solano, President, (Qualifying Individual), Application Type: Add OFF Service.

Oceanic Link USA LLC (NVO & OFF), 5430 Jimmy Carter Blvd., Suite 216, Norcross, GA 30093. Officers: Mohsinul Haque, CEO, (Qualifying Individual), Maisun Maliha, CFO, Application Type: New NVO & OFF License.

The Shaker Group, Inc. (NVO & OFF), 862 Albany Shaker Road, Latham, NY 12110. Officer: Geoffrey A. Pappas, President/Secretary, (Qualifying Individual), Application Type: New NVO & OFF License.

The Ultimate Logistics Service Corporation (NVO & OFF), 3 Birch Place, Pine Brook, NJ 07058. Officer: Michael K. Cheng, President/Secretary/Treasurer, (Qualifying Individual), Application Type: New NVO & OFF License.

Dated: June 3, 2011
Karen V. Gregory,
Secretary.

[FR Doc. 2011-14308 Filed 6-8-11; 8:45 am]

BILLING CODE 6730-01-P